FEDERAL COMMUNICATIONS COMMISSION

[MB Docket No. 10-238; DA 10-2227]

Request for Comment for Report on In-State Broadcast Programming

AGENCY: Federal Communications Commission.

ACTION: Notice; solicitation of comments.

SUMMARY: This document solicits public comments and data for use in preparation of a report on in-state broadcasting required by Section 304 of the Satellite Television Extension and Localism Act of 2010 (STELA). The Commission is required by legislative mandate to submit this report no later than August 27, 2011.

DATES: Comments may be filed on or before January 24, 2011, and reply comments may be filed on or before February 22, 2011.

ADDRESSES: Federal Communications Commission, 445 12th Street, SW., Washington, DC 20554.

FOR FURTHER INFORMATION CONTACT: Dan Bring, Media Bureau (202) 418-2164, TTY (202) 418-7172, or e-mail at Danny.Bring@fcc.gov.

SUPPLEMENTARY INFORMATION: This is a synopsis of the Commission's document in MB Docket No. 10-238, DA-10-2227, released November 23, 2010. The complete text of the document is available for inspection and copying during normal business hours in the FCC Reference Center, 445 12th Street, SW., Washington, DC 20554, and may also be purchased from the Commission's copy contractor, BCPI, Inc., Portals II, 445 12th Street, SW., Washington, DC 20054. Customers may contact BCPI, Inc. at their Web site http://www.bcpi.com or call 1-800-378-3160.

Synopsis

1. Section 304 of the Satellite Television Extension and Localism Act of 2010 (STELA) requires the Commission to submit a report on in-state broadcast programming to the appropriate Congressional committees no later than 18 months after its enactment (i.e., August 27, 2011). Satellite Television Extension and Localism Act of 2010, Title V of the “American Workers, State, and Business Relief Act of 2010,” Public Law 111-175, 124 Stat. 1218 (2010). By this Public Notice, the Media Bureau (Bureau) seeks comment for use in preparation of the required report.

2. Specifically, Section 304 of STELA states:

SEC. 304. REPORT ON IN-STATE BROADCAST PROGRAMMING. Not later than 18 months after the date of the enactment of this Act, the Federal Communications Commission shall submit to the appropriate Congressional committees a report containing an analysis of—

(1) The number of households in a State that receive the signals of local broadcast stations assigned to a community of license that is located in a different State;

(2) the extent to which consumers in each local market have access to in-state broadcast programming over the air or from a multichannel video programming distributor; and

(3) whether there are alternatives to the use of designated market areas, as defined in section 122 of title 17, United States Code, to define local markets that would provide more consumers with in-state broadcast programming.

3. To analyze the issues relating to the availability of in-state broadcast stations for consumers, the Bureau seeks comment generally regarding the appropriate methodologies, metrics, data sources, and level of granularity we should use for our report to Congress required under Section 304. We also seek comment regarding our interpretation of and metrics appropriate for each of the specific subsections of Section 304. In addition, the Bureau requests data for use in preparation of the report.

4. Section 304(1): Section 304(1) requires the Commission to estimate the number of households in a state that receive the signals of local broadcast stations assigned to a community of license that is located in a different state. The Bureau proposes to use OET Bulletin No. 69 (OET 69) methodology to estimate the number of households in each broadcast television station's service area. OET Bulletin 69, available at http://www.fcc.gov/oet/info/documents/bulletins/#69, provides guidance on the use of the Longley-Rice propagation model and U.S. Census blocks to evaluate TV service coverage and interference. The Bureau seeks comment on the use of OET 69 and which stations to include in the analysis (i.e., commercial, noncommercial educational, Class A, translators, satellite, and/or low-power).

5. Section 304(2): Section 304(2) requires the Commission to estimate the extent to which consumers in each local market have access to in-state broadcast programming over-the-air or from a multichannel video programming distributor (MVPD). The Bureau proposes that the term “consumers” should be interpreted as households, the term “local market” should be interpreted as the designated market area (DMA), and the term “access” should refer to the ability to obtain a television station's broadcast programming. The Bureau seeks comment on the interpretation of these terms.

6. The Bureau seeks comment on whether the intent of the Section 304(2) analysis is to identify geographic areas (e.g., counties) and associated populations within specific states that have limited access to in-state broadcast programming and whether analysis based on DMAs will identify these geographic areas and populations. The Bureau also seeks comment on whether other criteria should be considered, such as network affiliation or whether the stations offer local news. To measure the “extent” to which consumers in each local market have access to in-state broadcast programming, the Bureau intends to collect, aggregate, and compare data based on DMAs and counties and requests data on a DMA and county basis. Commenters also are invited to suggest and provide data for other geographic areas that would be responsive to the directive of Section 304(2). Commenters are asked to submit any other data that they believe will assist the Commission in preparing the report.

7. In addition, the Bureau seeks comment on three possible approaches for measuring the extent of access to in-state broadcast programming, whereby we would estimate the number of households that have access to (1) a specific number of in-state stations, (2) some percentage of their broadcast programming from in-state stations, or (3) some percentage of the stations licensed to communities in their state. The Bureau asks commenting parties to provide data associated with the approach recommended, or to direct the Commission to any outside data sources where such specific data may be available.

8. For the Section 304(2) analysis, the Bureau proposes to use the Longley-Rice methodology to estimate access to broadcast programming over-the-air and data from the Annual Report of Cable Television Systems, FCC Form 325, to estimate access to broadcast programming carried by some, but not all, cable systems. The Bureau requests that all MVPDs provide information on the broadcast stations they carry on their systems and whether they carry the same broadcast stations throughout the DMA, county or other geographic area. The Bureau seeks comment on the proposed sources of data for estimating over-the-air and MVPD access to broadcast programming and whether there are other sources of data that would provide more reliable estimates. The Bureau also seeks comment on the appropriate methodology for combining broadcast and MVPD data that may be collected from different sources using different geographic bases and the most appropriate way to aggregate data from broadcast, cable, DBS, and other MVPDs. Commenters are requested to provide relevant data or data sources associated with the methodology they recommend.

9. The Bureau seeks comment on whether and how to include information for the United States Virgin Islands, Puerto Rico, and Guam in this report. The Bureau also requests that MVPDs provide data to measure the extent of access to in-state broadcast programming in these three geographic areas.

10. Section 304(3): Section 304(3) requires the Commission to consider alternatives to the use of DMAs to define local markets that would provide more consumers with in-state broadcast programming. DMAs are used in the planning and purchase of television advertising and are also referenced in FCC regulations regarding the carriage of broadcast television stations on cable and DBS systems and in the media ownership rules. As such, redefining local markets with alternative geographic areas would likely affect viewers, the advertising market, the number of stations carried by MVPDs, and ownership of stations. The Bureau seeks comment on alternatives to the use of DMAs and the effects of alternatives on viewers, advertising markets, number of stations carried by MVPDs, ownership of stations, network affiliation agreements, and areas of exclusivity.

Procedural Matters

11. Ex Parte Rules. There are no ex parte or disclosure requirements applicable to this proceeding pursuant to 47 CFR 1.204(b)(1).

12. Comment Information. Pursuant to sections 1.415 and 1.419 of the Commission's rules, 47 CFR 1.415, 1.419, interested parties may file comments and reply comments on or before the dates indicated on the first page of this document. Comments may be filed using: (1) The Commission's Electronic Comment Filing System (ECFS), (2) the Federal Government's eRulemaking Portal, or (3) by filing paper copies.

See Electronic Filing of Documents in Rulemaking Proceedings, 63 FR 24121 (1998).

• Electronic Filers: Comments may be filed electronically using the Internet by accessing the ECFS: http://fjallfoss.fcc.gov/ecfs2/ or the Federal eRulemaking Portal: http://www.regulations.gov.

• For ECFS filers, if multiple docket or rulemaking numbers appear in the caption of this proceeding, filers must transmit one electronic copy of the comments for each docket or rulemaking number referenced in the caption. In completing the transmittal screen, filers should include their full name, U.S. Postal Service mailing address, and the applicable docket or rulemaking number. Parties may also submit an electronic comment by Internet e-mail. To get filing instructions, filers should send an e-mail to ecfs@fcc.gov, and include the following words in the body of the message “get form.” A Sample form and directions will be sent in response.

• Paper Filers: Parties who choose to file by paper must file an original and four copies of each filing. If more than one docket or rulemaking number appears in the caption of this proceeding, filers must submit two additional copies for each additional docket or rulemaking number.

Filings can be sent by hand or messenger delivery, by commercial overnight courier, or by first-class or overnight U.S. Postal Service mail. All filings must be addressed to the Commission's Secretary, Office of the Secretary, Federal Communications Commission.

• All hand-delivered or messenger-delivered paper filings for the Commission's Secretary must be delivered to FCC Headquarters at 445 12th St., SW., Room TW-A325, Washington, DC 20554. The filing hours are 8 a.m. to 7 p.m. All hand deliveries must be held together with rubber bands or fasteners. Any envelopes must be disposed of before entering the building.

• Commercial overnight mail (other than U.S. Postal Service Express Mail and Priority Mail) must be sent to 9300 East Hampton Drive, Capitol Heights, MD 20743.

• U.S. Postal Service first-class, Express, and Priority mail must be addressed to 445 12th Street, SW., Washington DC 20554.

• People with Disabilities: Contact the FCC to request materials in accessible formats for people with disabilities (braille, large print, electronic files, audio format), send an e-mail to fcc504@fcc.gov or call the Consumer & Governmental Affairs Bureau at 202-418-0530 (voice), 202-418-0432 (TTY).

Federal Communications Commission.
Thomas Horan,
Chief of Staff, Media Bureau.

[FR Doc. 2010-30987 Filed 12-8-10; 8:45 am]

BILLING CODE 6712-01-P